DEPARTMENT OF JUSTICE

Drug Enforcement Administration

21 CFR Part 1308

[Docket No. DEA-309F]

Designation of Oripavine as a Basic Class of Controlled Substance; Correction

AGENCY: Drug Enforcement Administration (DEA), Justice.

ACTION: Final rule; correcting amendments.

SUMMARY: On September 24, 2007, the Drug Enforcement Administration (DEA) published in the Federal Register a final rule (72 FR 54208) designating oripavine (3-O-demethylthebaine or 6,7,8,14-tetradehydro-4,5-alpha-epoxy-6-methoxy-17-methylmorphinan-3-ol) as a basic class in schedule II of the Controlled Substances Act (CSA). The drug code for oripavine was inadvertently designated as 9335, a drug code which is already used to identify a schedule I controlled substance. This correction corrects that error and assigns a different drug code to oripavine.

DATES: Effective December 10, 2007.

FOR FURTHER INFORMATION CONTACT: Christine A. Sannerud, PhD, Chief, Drug and Chemical Evaluation Section, Drug Enforcement Administration, Washington, DC 20537, by e-mail, ode@dea.usdoj.gov or by fax, (202) 353-1263.

SUPPLEMENTARY INFORMATION: On September 24, 2007, the Drug Enforcement Administration (DEA) published a Final Rule in the Federal Register (72 FR 54208) designating oripavine (3- O-demethylthebaine or 6,7,8,14-tetradehydro-4,5-alpha-epoxy-6-methoxy-17-methylmorphinan-3-ol) as a basic class in schedule II of the Controlled Substances Act (CSA). In the final rule, the drug code for oripavine was inadvertently listed as 9335. This is the drug code for the schedule I controlled substance, drotebanol. Upon publication of this rule, the drug code for oripavine will be amended to 9330.

Accordingly, 21 CFR part 1308 is corrected by making the following correcting amendments:

PART 1308—SCHEDULES OF CONTROLLED SUBSTANCES

1. The authority citation for part 1308 continues to read as follows:

Authority: 21 U.S.C. 811, 812, 871(b), unless otherwise noted.

2. Section 1308.12(b)(1) is amended by revising the entry (xii) to read as follows:

§ 1308.12 Schedule II.

* * * * *

(b) * * *

(1) * * *

* * * * *

(xii) Oripavine | 9330

* * * * *

Dated: November 26, 2007.
Joseph T. Rannazzisi,
Deputy Assistant Administrator, Office of Diversion Control.

[FR Doc. E7-23759 Filed 12-7-07; 8:45 am]

BILLING CODE 4410-09-P